DEPARTMENT OF THE INTERIOR

National Park Service

[NPS-IMR-BITH-10384; 7880-726]

Minor Boundary Revision at Big Thicket National Preserve

AGENCY: National Park Service, Interior.

ACTION: Notification of Boundary Revision.

SUMMARY: Notice is hereby given that, pursuant to the Act of October 11, 1974 (Pub. L. 93- 439, 88 Stat. 1245), the boundary of Big Thicket National Preserve is modified to include 9 tracts of lands listed as follows: Tract 119-07, 123.07 acres; Tract 219-12, 6.45 acres; Tract 219- 13, 177.28 acres; Tract 221-15, 8.51 acres; Tract 221-16, 4.29 acres; Tract 224-16, 648.01 acres; Tract 225-20, 41.40 acres; Tract 227-04, 52.74 acres; and Tract 230-01, 1,141.87 acres; for a total of 2,203.62 acres. These lands are located in Hardin County, Polk County, and Tyler County, Texas, immediately adjacent to the existing boundary of Big Thicket National Preserve. The boundary revision is depicted on Map No. 175/106,913A dated August, 2011. The map is available for inspection at the following locations: National Park Service, Intermountain Region Land Resources Program Center, 12795 West Alameda Parkway, Denver, Colorado 80225-0287 and National Park Service, Department of the Interior, Washington, DC 20240.

DATES: The effective date of this boundary revision is September 6, 2012.

FOR FURTHER INFORMATION CONTACT: National Park Service, Chief Realty Officer, Intermountain Region Resources Program Center, 12795 West Alameda Parkway, Denver, Colorado 80225-0827, at (303) 969-2610.

SUPPLEMENTARY INFORMATION: The Act of October 11, 1974, as amended, established the Big Thicket National Preserve and provided that after notifying the House Committee on Resources and the Senate Committee on Energy and Resources, the Secretary of the Interior is authorized to make this boundary revision. The Committees have been notified of this boundary revision.

This boundary revision will make a significant contribution toward the preservation and protection of the ecological crossroads of Southeast Texas for which the preserve was established. The acquisition of these parcels will provide connectivity between the various units and will aid in maintaining wildlife migration corridors and the management of the park. These lands provide some of the most outstanding recreational opportunities for wetland canoeing within the National Park Service System, and include significant biological and geological diversity.

Dated: August 23, 2012.
Colin Campbell,
Deputy Regional Director, Intermountain Region.

[FR Doc. 2012-21925 Filed 9-5-12; 8:45 am]

BILLING CODE 4312-CB-P